DEPARTMENT OF DEFENSE

Department of the Army

Army Science Board, Notice of Open Meeting

In accordance with section 10(a)(2) of the Federal Advisory Committee Act (Pub. L. 92-463), announcement is made of the following committee meeting:

Name of Committee: Army Science Board (ASB).

Date(s) of Meeting: 5 & 6 February 2004.

Time(s) of Meeting: 0800-1700, 5 February 2003; 0800-1700, 6 February 2003.

Place: Hilton Hotel, Crystal City, VA.

1. Agenda: The Army Science Board FY04 Summer Studies, Force Balance and FCS Urban Operations are holding a plenary meeting on 5&6 of February 2004. The meeting will be held at the Hilton Hotel in Crystal City, VA. The meeting will begin at 0800 hrs. on the 5th and will end at approximately 1700 hrs. on the 6th. For further information regarding Force Balance, please contact LTC Al Klee at (703) 601-0676 or e-mail at Alvin.Klee@ocar.army.pentagon.mil. For FCS Urban Operations, please contact MAJ Al Visconti at (865) 574-8798 or e-mail at viscontiaj@ornl.gov.

Wayne Joyner,
Program Support Specialist, Army Science Board.

[FR Doc. 04-2425 Filed 2-4-04; 8:45 am]

BILLING CODE 3710-08-M